DEPARTMENT OF ENERGY

Federal Energy Regulatory Commission

[Docket Nos. CP04-114-000 and CP04-115-000]

Compass Pass Pipeline LLC; Notice of Application

April 27, 2004.

Take notice that on April 16, 2004, Compass Pass Pipeline LLC (Compass Pass), 600 North Dairy Ashford, Houston, Texas 77079, filed in Docket Nos. CP04-114-000 and CP04-115-000 an application, pursuant to Section 7(c) of the Natural Gas Act and Part 157, Subpart A of the Commission's regulations, for: (1) A certificate of public convenience and necessity to construct, own, and operate a single-use natural gas pipeline facility, the onshore Compass Pass Pipeline, to transport natural gas from Compass Port LLC's ¹ (Compass Port) offshore deepwater liquefied natural gas (LNG) port to interconnections with interstate natural gas pipelines near Coden, Mobile County, Alabama; and (2) a blanket certificate of public convenience and necessity in Docket No. CP04-115-000 under Subpart F of Part 157. The application is on file with the Commission and open to public inspection. The filing may also be viewed on the Web at http://www.ferc.gov using the “eLibrary” link. Enter the docket number excluding the last three digits in the docket number field to access the document. For assistance, call (202) 502-3676 or TYY, (202) 502-8659.

¹ Compass Pass Pipeline LLC and Compass Port LLC are both wholly-owned affiliates of the ConocoPhillips Company.

Compass Pass proposes to construct, own, and operate the Compass Pass Pipeline, a 5-mile, 36-inch diameter, single-use pipeline with a capacity of 1,000,000 dekatherms equivalent of natural gas per day. Compass Pass states that the sole purpose of these pipeline facilities would be to transport natural gas owned by Compass Pass from Compass Port's proposed Compass Port offshore deepwater port for the importation and vaporization of LNG, and processing, storage and transportation of natural gas and natural gas liquids, which would be located off the Alabama coast. Compass Port states that it will operate the Compass Port LNG facilities as a proprietary deepwater LNG port pursuant to the Deepwater Port Act of 1974. Compass Port also states that it filed an application to construct and operate the Compass Port offshore facilities with the U.S. Coast Guard on March 29, 2004.

Compass Pass asserts that, inasmuch as it plans to use the proposed Compass Pass Pipeline solely to deliver natural gas owned by Compass on a proprietary basis, it requests waiver of the open access requirements of Part 284 of the Commission's regulations, including, but not limited to, certain accounting and reporting requirements.

Any questions regarding this application should be directed to Bruce A. Connell, Regulatory Counsel & Director of Regulatory Affairs, ConocoPhillips Company, 600 North Dairy Ashford, CH-1022, Houston, Texas, 77079, phone (281) 293-1736, or, in the alternative, Douglas F. John, JOHN & HENGERER, 1200 17th Street, NW., Suite 600, Washington, DC 20036-3013, phone (202) 429-8801.

There are two ways to become involved in the Commission's review of this project. First, any person wishing to obtain legal status by becoming a party to the proceedings for this project should, on or before May 18, 2004, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See 18 CFR 385.2001(a) (1) (iii) and the instructions on the Commission's Web site under the “e-Filing” link.

Comment Date: May 18, 2004.

Magalie R. Salas,
Secretary.

[FR Doc. E4-988 Filed 4-30-04; 8:45 a.m.]

BILLING CODE 6717-01-P